DEPARTMENT OF COMMERCE

National Institute of Standards and Technology

National Construction Safety Team Advisory Committee Meeting

AGENCY: National Institute of Standards and Technology, United States Department of Commerce.

ACTION: Notice of open meeting.

SUMMARY: The National Construction Safety Team (NCST) Advisory Committee (Committee), National Institute of Standards and Technology (NIST), will meet via teleconference Tuesday, December 18, 2007, from 1 p.m. to 3 p.m. The meeting will be audio webcast so that the public may listen to the meeting as it takes place. The primary purpose of this meeting is for the NCST Advisory Committee to discuss its annual report to the Congress and for NIST to update the Committee on the status of the investigation of World Trade Center 7. The agenda may change to accommodate Committee business. The final agenda will be posted on the NIST Web site at http://www.nist.gov/ncst.

DATES: The meeting will convene on Tuesday, December 18, 2007 at 1 p.m. and will adjourn at 3 p.m. The meeting will be conducted via teleconference. The live audio Web cast will be available to the public via a link on the NIST WTC Web site, http://wtc.nist.gov.

ADDRESSES: The meeting will be held via teleconference. A live audio webcast of the meeting will be available via a link on the NIST WTC Web site, http://wtc.nist.gov. Please refer to the SUPPLEMENTARY INFORMATION section of this notice for additional information.

FOR FURTHER INFORMATION CONTACT: Stephen Cauffman, National Construction Safety Team Advisory Committee, National Institute of Standards and Technology, 100 Bureau Drive, MS 8611, Gaithersburg, Maryland 20899-8611. Mr. Cauffman's e-mail address is stephen.cauffman@nist.gov and his phone number is (301) 975-6051.

SUPPLEMENTARY INFORMATION: The Committee was established pursuant to Section 11 of the National Construction Safety Team Act (15 U.S.C. 7310 et seq.). The Committee is composed of six members, appointed by the Director of NIST, who were selected for their technical expertise and experience, established records of distinguished professional service, and their knowledge of issues affecting teams established under the NCST Act. The Committee will advise the Director of NIST on carrying out investigations of building failures conducted under the authorities of the NCST Act that became law in October 2002 and will review the procedures developed to implement the NCST Act and reports issued under section 8 of the NCST Act. Background information on the NCST Act and information on the NCST Advisory Committee is available at http://www.nist.gov/ncst.

Pursuant to the Federal Advisory Committee Act, 5 U.S.C. app. 2, notice is hereby given that the National Construction Safety Team (NCST) Advisory Committee (Committee), National Institute of Standards and Technology (NIST), will meet Tuesday, December 18, at 1 p.m. and will adjourn at 3 p.m. The meeting will be conducted by teleconference with a live audio webcast available to the public.

The primary purpose of this meeting is for the NCST Advisory Committee to discuss its annual report to the Congress and for NIST to update the Committee on the status of the investigation of World Trade Center 7. The meeting will be conducted via teleconference with a live audio webcast. The final agenda will be posted on the NIST Web site at http://www.nist.gov/ncst.

Individuals and representatives of organizations who would like to offer comments and suggestions related to items on the Committee's agenda for this meeting, are invited to request a place on the agenda. Approximately one-half hour will be reserved for public comments, and speaking times will be assigned on a first-come, first-served basis. The amount of time per speaker will be determined by the number of requests received, but is likely to be 5 minutes each. Questions from the public will not be considered during this period. Speakers who wish to expand upon their oral statements, those who had wished to speak but could not be accommodated on the agenda, and those who were unable to attend in person are invited to submit written statements to the National Construction Safety Team Advisory Committee, National Institute of Standards and Technology, 100 Bureau Drive, MS 8611, Gaithersburg, Maryland 20899-8611, via fax at (301) 975-6122, or electronically by e-mail to ncstac@nist.gov.

Since the meeting will be held by teleconference, all those wishing to speak must submit their request by e-mail to the attention of Mr. Stephen Cauffman, cauffman@nist.gov by 5 p.m. EST on December 14, 2007. Instructions on how and when to call in for the public comment period will be provided to registered speakers by e-mail on December 17, 2007.

Dated: November 28, 2007.
Richard F. Kayser,
Acting Deputy Director.

[FR Doc. E7-23492 Filed 12-3-07; 8:45 am]

BILLING CODE 3510-13-P